DEPARTMENT OF HOUSING AND URBAN DEVELOPMENT

[Docket No. FR-6560-N-02]

Tribal Intergovernmental Advisory Committee (TIAC) Membership Announcement

AGENCY: Office of Assistant Secretary for Public and Indian Housing, HUD.

ACTION: Notice.

SUMMARY: This notice announces the list of Committee Members of HUD's Tribal Intergovernmental Advisory Committee (TIAC) starting in January 2026. The committee will perform several advisory functions while it considers HUD policies that affect Indian Country. HUD will publish a subsequent notice with details of any scheduled TIAC meeting.

FOR FURTHER INFORMATION CONTACT: Hilary C. Atkin, Acting Deputy Assistant Secretary for Native American Programs, Office of Public and Indian Housing, Department of Housing and Urban Development, 451 Seventh Street SW, Room 4108, Washington, DC 20410, telephone number 202-401-7914 (this is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION:

I. Background

On November 15, 2021 (86 FR 63051), to enhance consultation and collaboration with Tribal governments, HUD published a notice in the Federal Register announcing its intention to establish its first Tribal advisory committee known as the “Tribal Intergovernmental Advisory Committee” (TIAC). The notice also solicited Tribal feedback on a proposed TIAC structure and its functions. On March 31, 2022 (87 FR 18807), HUD published a notice in the Federal Register that announced the final structure of the TIAC and requested the submission of Tribal nominations to the TIAC. HUD selected 15 members for its inaugural TIAC, beginning in January 2023.

On April 8, 2024 (89 FR 24484), HUD published a notice in the Federal Register requesting submission of Tribal nominations to the TIAC for two-year terms to begin in January 2025 (replacing eight positions whose terms were set to expire at the end of December 2024).

On May 19, 2025 (90 FR 21326), HUD published a notice in the Federal Register requesting submission of Tribal nominations to the TIAC for two-year terms to begin in January 2026 (filling eight vacant positions).

II. The Tribal Intergovernmental Advisory Committee

Today's notice announces the membership of the TIAC starting January 2026 (returning members as well as new members). The purpose of the TIAC is to further facilitate intergovernmental communication between HUD and Tribal leaders of federally recognized Tribes on all HUD programs, to make recommendations to HUD regarding current program regulations that may require revision, as well as suggest rulemaking methods to develop such changes, and to advise in the development of HUD's American Indian and Alaska Native (AI/AN) housing priorities. The function of TIAC is not to replace Tribal consultation, but rather to serve as a tool to help supplement it.

In making the selections for membership on the TIAC, HUD's goal was to establish a committee whose membership reflects a balanced representation of small, medium, and large Indian tribes across Indian Country. In addition to the Tribal representatives on the committee, there will be several HUD representatives, each representing various program offices, on the committee.

HUD is announcing the Tribal Committee Members in this Notice. However, each Committee Member should have an eligible Alternate in queue in case the Committee Member is unable to attend a particular committee meeting. As a reminder, the Alternate must meet the same eligibility criteria required of the selected Committee Member, specifically, that they must be either a duly elected Tribal official or Tribal employee. The Alternate cannot be a Tribally Designated Housing Entity employee. In the absence of a Committee Member, the Alternate will have the same rights, responsibilities, duties, and functions as a Committee Member during meetings. Each Committee Member has the discretion to decide who will best represent them in their absence. A Committee Member unable to attend any session must inform HUD in writing with an original signature as to whom they have selected to represent them and will specify the term. HUD will review all Alternates before a meeting to confirm that they meet the eligibility criteria for Alternates specified by HUD.

The final list of members of the TIAC is as follows:

Serving New Terms

(1) Kenneth Brink, Tribal Council Vice Chairman, Karuk Tribe, Happy Camp, California.

(2) Eugene DeCora, Council Member, Winnebago Tribe of Nebraska, Winnebago, Nebraska.

(3) Anita Lozinto, Board of Directors At-Large Member, Dry Creek Rancheria of Pomo Indians, Santa Rosa, California.

(4) Teri Nutter, Council Member, Gulkana Village Council, Gakona, Alaska.

(5) Jacqueline Pata, 1st Vice President, Central Council of Tlingit & Haida Indian Tribes of Alaska, Juneau, Alaska.

(6) Ashley Sexton, Tribal Administrator, Catawba Indian Nation, Rock Hill, South Carolina.

(7) Genia Williams, Council Treasurer, Walker River Paiute Tribe, Schurz, Nevada.

(8) Bobby Yandell, Executive Director of Housing, Choctaw Nation of Oklahoma, Durant, Oklahoma.

Serving Existing Terms

(1) Jamie Azure, Chairman, Turtle Mountain Band of Chippewa Indians, Belcourt, North Dakota.

(2) Kelly Cook, Executive Director, Office of Housing, Chickasaw Nation, Ada, Oklahoma.

(3) Todd Enlow, Executive Director of Housing, Cherokee Nation, Tahlequah, Oklahoma.

(4) Benjamin Herne, Tribal Sub-Chief, Saint Regis Mohawk Tribe, Akwesasne, New York.

(5) Ryman LeBeau, Chairman, Cheyenne River Sioux Tribe, Eagle Butte, South Dakota.

(6) Toby McClary, Council Member, Confederated Tribes of Grand Ronde Community of Oregon, Grand Ronde, Oregon.

(7) Charles Matthew Sisneros, Lieutenant Governor, Santa Clara Pueblo, Española, New Mexico.

Hilary C. Atkin,
Acting Deputy Assistant Secretary for Native American Programs, Office of Public and Indian Housing.

[FR Doc. 2026-00089 Filed 1-6-26; 8:45 am]

BILLING CODE 4210-67-P